NATIONAL SCIENCE FOUNDATION

Notice of Availability and Notice of Public Meeting for the U.S. Antarctic Program (USAP) South Pole Station Master Plan Charrette

AGENCY: National Science Foundation.

ACTION: Notice of public meeting.

SUMMARY: The National Science Foundation (NSF) is developing a Station Master Plan for the USAP South Pole Station, Antarctica. A planning charrette will provide a forum for the scientific community to engage in conversations about science conducted at the South Pole currently and capabilities in the future. Planners will facilitate discussions around facility requirements, siting criteria, infrastructure and utility needs, and phasing priorities. Following the charrette, a draft Master Plan will be posted to the Federal Register for public comment.

DATES: The public meeting (Charrette) is scheduled for August 22, 24, 29, and 31. (see details in SUPPLEMENTARY INFORMATION).

ADDRESSES: You may submit written comments by either of the following methods:

Email to: SPMasterPlan@nsf.gov, with subject line “South Pole Station Master Plan.”

Mail to: Office of Polar Programs, RE: South Pole Station Master Plan, National Science Foundation, 2415 Eisenhower Avenue, Suite W7100, Alexandria, VA 22314.

FOR FURTHER INFORMATION CONTACT: For further information regarding the South Pole Station Master Plan (SPSMP), contact: Office of Polar Programs RE: South Pole Station Master Plan, National Science Foundation, Office of Polar Programs, 2415 Eisenhower Avenue, Suite W9152, Alexandria, VA 22314; Suzanne Plimpton; Telephone: (703) 292-8030; email: SPMasterPlan@nsf.gov.

SUPPLEMENTARY INFORMATION: The Amundsen-Scott South Pole station is one of three year-round stations operated by the National Science Foundation (NSF) as outlined in Presidential Memorandum 6646. The South Pole is a unique research site that supports projects ranging from cosmic observations to seismic and atmospheric studies. The South Pole Station begins austral summer operations in October of each year. The station typically remains in summer operating mode until early February, at which point the eight-month long winter season begins.

Amundsen-Scott South Pole Station sits at the Earth's axis on a shifting continental ice sheet several miles thick. At an elevation of 2,835 meters (9,300 feet), the South Pole has an average monthly temperature in the austral summer of −28°C (−18 °F); in the austral winter, the average monthly temperature is -60°C (−76 °F).

The NSF Office of Polar Programs has identified the need for a South Pole Station Master Plan. Master Plans are a common tool used across research campuses and universities to ensure infrastructure projects are guided by a clear and consistent vision of the future. The South Pole Station Master Plan will inform investments planned under the Antarctic Infrastructure Recapitalization program and ensure that the future state will achieve the mission and priorities of the U.S. Antarctic Program and the NSF.

The Rules of Conduct for panelists will be reviewed and posted during the meeting, they will include:

• Be respectful and kind, treat everyone on the call with respect, even if you disagree with their viewpoint or ideas.

• Address the problem, not the speaker.

• Verbal attacks, lectures, and curse language will not be tolerated.

General public attendees will be able to post questions in the Q&A window only.

Public Meeting: A public planning charrette meeting to address the South Pole Station Master Plan will take place virtually via ZOOM. Individuals may register to attend at this link: South Pole Maser Plan Charrette—Registration. The meetings will be held over four days: August 22, 24, 29, & 31 between 12-6 p.m. ET each day.

Notification of the time and location will be published in a newspaper, as follows:

• Public Meeting: A public planning charrette meeting to address the South Pole Station Master Plan will take place virtually via ZOOM over four days: August 22, 24, 29, & 31 between 12—6 p.m. ET each day. Individuals may register to attend at this link: https://nsf.zoomgov.com/webinar/register/WN_ZxoAb4MbSrG7rE4LZVRulA.

Please contact NSF at least one week in advance of the meeting if you would like to request special accommodations (i.e., sign language interpretation, etc.).

Dated: July 7, 2023.
Suzanne H. Plimpton,
Reports Clearance Officer, National Science Foundation.

[FR Doc. 2023-14786 Filed 7-11-23; 8:45 am]

BILLING CODE 7555-01-P